DEPARTMENT OF HEALTH AND HUMAN SERVICES

National Institutes of Health

National Institute of Neurological Disorders and Stroke; Notice of Meeting

Pursuant to section 1009 of the Federal Advisory Committee Act, as amended, notice is hereby given of a meeting of the National Advisory Neurological Disorders and Stroke Council.

The meeting will be open to the public as indicated below, with attendance limited to space available. Individuals who plan to attend as well as those who need special assistance, such as sign language interpretation or other reasonable accommodations, must notify the Contact Person listed below in advance of the meeting.

Name of Committee: National Advisory Neurological Disorders and Stroke Council.

Date: February 11, 2026.

Time: 10:00 a.m. to 5:00 p.m.

Agenda: Report by the Director, NINDS; Report by the Director, Division of Extramural Activities; and Administrative and Program Developments; and Overview of the BRAIN program.

Meeting is virtual and will be videocast from this link: https://videocast.nih.gov.

Place: National Institutes of Health, 6001 Executive Boulevard, Room 1131, Rockville, Maryland 20852, (Virtual Meeting).

Contact Person: Andrea Meredith Ph.D., Director, Extramural Activities, National Institute of Neurological, Disorders and Stroke, NIH, 6001 Executive Blvd., 5th Floor, MSC 9531, Bethesda, MD 20892, (301) 496-9248, andrea.meredith@nih.gov.

Any interested person may file written comments with the committee by forwarding the statement to the Contact Person listed on this notice at least 10 days in advance of the meeting. The statement should include the name, address, telephone number and when applicable, the business or professional affiliation of the interested person.

Information is also available on the Institute's/Center's home page: www.ninds.nih.gov, where an agenda and any additional information for the meeting will be posted when available.

(Catalogue of Federal Domestic Assistance Program Nos. 93.853, Clinical Research Related to Neurological Disorders; 93.854, Biological Basis Research in the Neurosciences, National Institutes of Health, HHS.)

Dated: January 7, 2026.
Rosalind M. Niamke,
Program Analyst, Office of Federal Advisory Committee Policy.

[FR Doc. 2026-00302 Filed 1-9-26; 8:45 am]

BILLING CODE 4140-01-P